DEPARTMENT OF LABOR

Employment and Training Administration

[TA-W-73,910; TA-W-73,910A; TA-W-73,910B]

Cranberry Lumber Company Including Workers of the Following Operating Entities: Butternut One, Ltd., Cranberry Resources, LLC., and Cranberry Hardwoods, Inc. Incuding On-Site Leased Workers From Stafftrak Beckley, WV, Cranberry Lumber Company Including Workers of Greenbrier Forest Products, Inc. Smoot, WV, Cranberry Lumber Company Newport, OH; Amended Certification Regarding Eligibility To Apply for Worker Adjustment Assistance

In accordance with Section 223 of the Trade Act of 1974, as amended (“Act”), 19 U.S.C. 2273, the Department of Labor issued a Certification of Eligibility to Apply for Worker Adjustment Assistance on July 30, 2010, applicable to workers of Cranberry Hardwoods, Inc., including on-site leased workers from Stafftrak, Beckley, West Virginia. The Department's Notice was published in the Federal Register on August 13, 2010 (75 FR 49531). The workers are engaged in employment related to the production of green and kiln dried lumber. The workers are not separately identifiable by product line.

At the request of a company official, the Department reviewed the certification for workers of the subject firm.

New information reveals that the name of the subject firm should read Cranberry Lumber Company. Further, additional information reveals that the subject firm operates in conjunction with other entities to produce green and kiln dried lumber: Butternut One, Ltd., Cranberry Resources, LLC, and Cranberry Hardwoods, Inc., in Beckley, West Virginia; Greenbrier Forest Products in Smoot, West Virginia; and Cranberry Lumber Company in Newport, Ohio.

Accordingly, the Department is amending this certification to correct the name of the subject firm to read Cranberry Lumber Company and to include the afore-mentioned additional workers.

The amended notice applicable to TA-W-73,910 is hereby issued as follows:

All workers of Cranberry Lumber Company, including workers from the following entities: Butternut One, Ltd., Cranberry Resources, LLC, and Cranberry Hardwoods, Inc., including on-site leased workers from Stafftrak, Beckley, West Virginia (TA-W-73,910), all workers of Cranberry Lumber Company, including workers of Greenbrier Forest Products, Inc., Smoot, West Virginia (TA-W-73,910A), and all workers of Cranberry Lumber Company, Newport, Ohio (TA-W-73,910), who became totally or partially separated from employment on or after April 14, 2009, through July 30, 2012, and all workers in the group threatened with total or partial separation from employment on the date of certification through two years from the date of certification, are eligible to apply for adjustment assistance under Chapter 2 of Title II of the Trade Act of 1974, as amended.

Signed at Washington, DC, this 10th day of November, 2010.
Del Min Amy Chen,
Certifying Officer, Office of Trade Adjustment Assistance.

[FR Doc. 2010-29431 Filed 11-22-10; 8:45 am]

BILLING CODE 4510-FN-P